DEPARTMENT OF ENERGY

Office of Energy Efficiency and Renewable Energy

Energy Conservation Program for Consumer Products: Decision and Order Granting a Waiver From the DOE Commercial Package Air Conditioner and Heat Pump Test Procedure to Mitsubishi Electric (Case No. CAC-008)

AGENCY: Office of Energy Efficiency and Renewable Energy, Department of Energy.

ACTION: Decision and Order.

SUMMARY: Notice is given of the Decision and Order (Case No. CAC-008) granting a Waiver to Mitsubishi Electric and Electronics USA, Inc. (MEUS) from the existing Department of Energy (DOE or Department) commercial package air conditioner and heat pump test procedure for its City Multi products.

FOR FURTHER INFORMATION CONTACT: Dr. Michael G. Raymond, U.S. Department of Energy, Building Technologies Program, Mail Stop EE-2J, Forrestal Building, 1000 Independence Avenue, SW., Washington, DC 20585-0121, (202) 586-9611, E-mail: Michael.Raymond@ee.doe.gov; or Thomas DePriest, Esq., U.S. Department of Energy, Office of General Counsel, Mail Stop GC-72, Forrestal Building, 1000 Independence Avenue, SW., Washington, DC 20585-0103, (202) 586-9507, E-mail: Thomas.DePriest@hq.doe.gov.

SUPPLEMENTARY INFORMATION: In accordance with Title 10, Code of Federal Regulations Part 431.29(f)(4), notice is hereby given of the issuance of the Decision and Order as set out below. In the Decision and Order, MEUS is granted a Waiver from the Department of Energy commercial package air conditioner and heat pump test procedure for its City Multi Variable Refrigerant Flow Zoning (VFRZ) products.

Issued in Washington, DC, on August 18, 2004.
David K. Garman,
Assistant Secretary, Energy Efficiency and Renewable Energy.

Decision and Order

In the Matter of: Mitsubishi Electric and Electronics USA, Inc. (MEUS). (Case No. CAC-008)

Background

Title III of the Energy Policy and Conservation Act (EPCA) sets forth a variety of provisions concerning energy efficiency. Part B of Title III (42 U.S.C. 6291-6309) provides for the AEnergy Conservation Program for Consumer Products other than Automobiles.” Part C of Title III (42 U.S.C. 6311-6317) provides for a program entitled ACertain Industrial Equipment,” which is similar to the program in Part B, and which includes commercial air conditioning equipment, packaged boilers, water heaters, and other types of commercial equipment.

Today's decision and order involves commercial equipment under Part C, which specifically provides for definitions, test procedures, labeling provisions, energy conservation standards, and the authority to require information and reports from manufacturers. With respect to test procedures, Part C generally authorizes the Secretary of Energy to prescribe test procedures that are reasonably designed to produce results which reflect energy efficiency, energy use and estimated annual operating costs, and that are not unduly burdensome to conduct.

For commercial package air-conditioning and heating equipment, EPCA provides that the test procedures shall be those generally accepted industry testing procedures developed or recognized by the Air-Conditioning and Refrigeration Institute (ARI) or by the American Society of Heating, Refrigerating and Air Conditioning Engineers (ASHRAE), as referenced in ASHRAE/IES (IES is the Illuminating Engineering Society of North America) Standard 90.1 and in effect on June 30, 1992. (42 U.S.C. 6314(a)(4)(A)) This section also allows the Secretary of Energy to amend the test procedure for a product if the industry test procedure is amended, unless the Secretary determines that such a modified test procedure does not meet the statutory criteria. (42 U.S.C. 6314(a)(4)(B)).

The relevant test procedure for the purposes of today's decision and order and referenced in the version of ASHRAE 90.1 in effect in 1992 is ARI 210/240 (1989), “Standard for Unitary Air-Conditioning and Air-Source Heat Pump Equipment.” The Air-Conditioning and Refrigeration Institute subsequently modified the 1989 version of the test procedure. The Department issued a Notice of Proposed Rulemaking proposing to adopt ARI 210/240 (1994) (65 FR 48828, Aug. 9, 2000), but has not taken final action with respect to that proposal. Thus, the currently applicable test procedure is contained in ARI Standard 210/240 (1989).

The Department's regulations contain provisions allowing a person to seek a waiver from the test procedure requirements for covered consumer products and electric motors. These provisions are set forth in 10 CFR 430.27 and 10 CFR 431.29. However, there are no waiver provisions for other covered commercial equipment. The Department proposed waiver provisions for covered commercial equipment on December 13, 1999 (64 FR 69597), as part of the commercial furnace test procedure rule. The Department expects to publish a final rule codifying this process in 10 CFR 431.201. Until that time, DOE will apply to commercial equipment the waiver provisions for consumer products and electric motors. These waiver provisions are substantively identical.

The waiver provisions allow the Assistant Secretary for Energy Efficiency and Renewable Energy to waive temporarily the test procedure for a particular basic model when a petitioner shows that the basic model contains one or more design characteristics that prevent testing according to the prescribed test procedures, or when the prescribed test procedures may evaluate the basic model in a manner so unrepresentative of its true energy consumption as to provide materially inaccurate comparative data. (10 CFR 430.27 (l), 10 CFR 431.29 (f)(4)) Waivers generally remain in effect until final test procedure amendments become effective, thereby resolving the problem that is the subject of the waiver.

On June 13, 2003, MEUS submitted a Petition for Waiver from the test procedures applicable to commercial package air conditioning and heating equipment. MEUS requested a waiver from the applicable test procedures because, MEUS asserts, the current test procedures evaluate its CITY MULTI Variable Refrigerant Flow Zoning (VRFZ) system products in a manner so unrepresentative of their true energy consumption characteristics as to provide materially inaccurate comparative data.

In particular, MEUS requested a waiver from the currently applicable test procedures contained in ARI 210/240 (1989), and from the test procedures contained in ARI 210/240 (1994), which the Department has proposed to adopt. On September 16, 2003, the Department published MEUS's Petition for Waiver, and solicited comments, data, and information respecting the petition. 68 FR 54212.

The Department received three written comments, from Carrier Corporation (Carrier), Lennox International Inc. (Lennox), and Samsung Air Conditioning (Samsung), concerning the Petition for Waiver. One of the comments (Samsung) supported granting the waiver, and two of the comments (Carrier and Lennox) were opposed.

Assertions and Determinations

MEUS’ petition presented several arguments in support of its claim that the current test procedures evaluate CITY MULTI VRFZ system products in a manner so unrepresentative of their true energy consumption characteristics as to provide materially inaccurate comparative data. One argument concerned the complexity of testing VFRZ systems. The current test procedure can be used to test all current commercial systems in the laboratory, but many VFRZ systems cannot be tested in the laboratory. Each VFRZ outdoor unit can be connected with up to sixteen separate indoor units in a zoned system. Existing test laboratories cannot test more than five indoor units at a time, and even that number is difficult.

A second difficulty is that MEUS offers 58 indoor unit models. Each of these indoor unit models is designed to be used with up to 15 other indoor units, which need not be the same models, in combination with a single outdoor unit. For each of the CITY MULTI VRFZ outdoor coils, there are well over 1,000,000 combinations of indoor coils that can be matched up in a system configuration, and it is highly impractical to test so many combinations.

There are therefore two major testing problems: (1) Test laboratories cannot test products with so many indoor units; and (2) there are too many possible combinations of indoor and outdoor units— only a small fraction of the combinations could be tested. These problems do not support MEUS' claim that the “current test procedures evaluate CITY MULTI VRFZ system products in a manner so unrepresentative of their true energy consumption characteristics as to provide materially inaccurate comparative data.” However, they do support the other waiver criterion, that “the basic model contains one or more design characteristics which * * * prevent testing of the basic model according to the prescribed test procedures. * * *”

In its comments on the waiver petition, Carrier addressed the first problem, stating that testing units with two or three indoor sections would be a good check on the rating accuracy. Lennox addressed the second problem, suggesting that the Petitioner present engineering analysis to establish a method of sampling a range of performance. The Department does not believe that the solutions embodied in either comment are a sufficient answer to the difficulties. These solutions would not provide a rating comparable in accuracy with the current test procedure as applied to a typical commercial system with one indoor and one outdoor unit. Furthermore, neither commenter addressed the problem of the test procedure's not having been designed to cover zoned systems.

The remainder of MEUS' assertions, and the comments upon them, relate to the energy efficiency descriptor, the energy efficiency ratio (EER). MEUS asserts: (1) The test procedure does not accommodate infinite variability in compressor speeds; (2) full load EER measurements are not representative of customer usage at part loads; and (3) the test procedure does not account for simultaneous heating and cooling. In short, MEUS asserts the test procedure for EER does not capture the energy savings of VFRZ products. While this assertion is true, it is irrelevant because the full load EER energy efficiency descriptor is the one mandated by EPCA for these products (42 U.S.C. 6313(a)(1)(c)), and the relevant energy performance is the peak load efficiency, not the seasonal energy savings. Therefore, a waiver can only be granted if a test procedure does not fairly represent the peak load energy consumption characteristics which EER measures. The Department is not convinced that the test procedures do not fairly represent the true (peak load) energy consumption characteristics as measured by EER. However, the two testing problems discussed above, (test laboratories cannot test products with so many indoor units, and there are too many possible combinations of indoor and outdoor units to test), do prevent testing of the basic model according to the prescribed test procedures.

The Department consulted with The Federal Trade Commission (FTC) concerning the MEUS Petition. The FTC did not have any objections to the issuance of the waiver to MEUS. The Department also consulted with the National Institute of Standards & Technology (NIST), who agreed that many VFRZ systems could not be tested in the laboratory.

Conclusion

After careful consideration of all the material that was submitted by MEUS, the comments received, the review by NIST, and consultation with the FTC, it is ordered that:

(1) The “Petition for Waiver” filed by Mitsubishi Electric and Electronics USA, Inc. (MEUS) (Case No. CAC-008) is hereby granted as set forth in paragraph (2) below.

(2) MEUS shall be not be required to test or rate its CITY MULTI Variable Refrigerant Flow Zoning System (VFRZ) products listed below on the basis of the currently applicable test procedure:

CITY MULTI Variable Refrigerant Flow Zoning System R-2 Series Outdoor Equipment:

PURY-80TMU, 80,000 Btu/h, 208/230-3-60 split-system variable-speed heat pump.

PURY-100TMU, 100,000 Btu/h, 208/230-3-60 split-system variable-speed heat pump.

CITY MULTI Variable Refrigerant Flow Zoning System Y Series Outdoor Equipment:

PUHY-80TMU, 80,000 Btu/h, 208/230-3-60 split-system variable-speed heat pump.

PUHY-100TMU, 100,000 Btu/h, 208/230-3-60 split-system variable-speed heat pump.

PUY-80TMU, 80,000 Btu/h, 208/230-3-60 split-system variable-speed air conditioner.

PUY-100TMU, 100,000 Btu/h, 208/230-3-60 split-system variable-speed air conditioner.

CITY MULTI Variable Refrigerant Flow Zoning System Indoor Equipment ᵃ:

ᵃ The * denotes engineering differences in the models.

PCFY Series—Ceiling Suspended—PCFY-16/24/40/48***-*.

PDFY Series—Ceiling Concealed Ducted—PDFY-08/10/12/16/20/24/28/32/40/48***-*.

PEFY Series—Ceiling Concealed Ducted, Low External Static Pressure—PEFY-08/10/12***-*.

PEFY Series—Ceiling Concealed Ducted, High External Static Pressure—PEFY-16/20/24/28/32/40/48***-*.

PFFY Series—Floor Standing—PFFY-08/10/12/16/20/24***-*.

PKFY Series—Wall-Mounted—PKFY-08/10/12/16/20/24/32/40***-*.

PLFY Series—4-Way Airflow Ceiling Cassette—PLFY-12/16/20/24/32/40/48***-*.

PLFY Series—2-Way Airflow Ceiling Cassette—PLFY-08/10/12/16/20/24/32/40/48***-*.

PMFY Series—1-Way Airflow Ceiling Cassette—PMFY-08/10/12/16***-*.

(3) This waiver shall remain in effect from the date of issuance of this Order until DOE prescribes final test procedures appropriate to the model series manufactured by MEUS and listed above.

(4) This waiver is based upon the presumed validity of statements, allegations, and documentary materials submitted by the petitioner. This waiver may be revoked or modified at any time upon a determination that the factual basis underlying the Petition is incorrect.

Issued in Washington, DC, on August 18, 2004.
David K. Garman,
Assistant Secretary, Energy Efficiency and Renewable Energy.

[FR Doc. 04-19604 Filed 8-26-04; 8:45 am]

BILLING CODE 6450-01-P